DEPARTMENT OF HEALTH AND HUMAN SERVICES

Office of the National Coordinator for Health Information Technology; American Health Information Community Quality Workgroup Meeting

ACTION: Meeting announcement.

SUMMARY: This notice announces the first meeting of the American Health Information Community Quality Workgroup in accordance with the Federal Advisory Committee Act (Pub. L. No. 92-463, 5 U.S.C., App.). The Quality Workgroup was created to make recommendations to the American Health Information Community on how HIT can: Provide data for the development of quality measures that are useful to patients and others in the health care industry; automate the measurement and reporting of a comprehensive current and future set of quality measures; and accelerate the use of clinical decision support that will improve performance using quality measures. The workgroup's initial charge will be to make recommendations to the American Health Information Community that specify how certified health information technology should capture, aggregate, and report data for a core set of ambulatory and in-patient quality measures.

Date/Time: September 22, 2006, 11 a.m. to 2 p.m.

ADDRESSES: Mary C. Switzer Building (330 C Street, SW., Washington, DC 20201), Conference Room 4090. (Please bring photo ID for entry to a Federal building.)

FOR FURTHER INFORMATION CONTACT: http://www.hhs.gov/healthit/ahic/workgroups.html.

SUPPLEMENTARY INFORMATION: The meeting will be available via Web cast at http://www.eventcenterlive.com/cfmx/ec/login/login1.cfm?BID=67.

Dated: August 29, 2006.
Judith Sparrow,
Director, American Health Information Community, Office of Programs and Coordination, Office of the National Coordinator for Health Information Technology.

[FR Doc. 06-7453 Filed 9-5-06; 8:45 am]

BILLING CODE 4150-24-M